DEPARTMENT OF ENERGY

Federal Energy Regulatory Commission

Combined Notice of Filings #1

Take notice that the Commission received the following electric corporate filings:

Docket Numbers: EC12-145-000.

Applicants: ITC Holdings Corp., Entergy Corporation, Midwest Independent Transmission System.

Description: Joint Application Under Sections 203 and 205 of the Federal Power Act and Petition for Declaratory Order on Application of Section 305(a) of the Federal Power Act of ITC Holdings Corp., Entergy Corporation et al.

Filed Date: 9/24/12.

Accession Number: 20120924-5181

Comments Due: 5 p.m. ET 11/8/12.

Take notice that the Commission received the following exempt wholesale generator filings:

Docket Numbers: EG12-113-000.

Applicants: Groton Wind, LLC.

Description: Self-Certification of Exempt Wholesale Generator Status of Groton Wind, LLC.

Filed Date: 9/24/12.

Accession Number: 20120924-5053.

Comments Due: 5 p.m. ET 10/15/12.

Docket Numbers: EG12-114-000.

Applicants: New England Wind, LLC.

Description: Self-Certification of Exempt Wholesale Generator Status of New England Wind, LLC.

Filed Date: 9/24/12.

Accession Number: 20120924-5054.

Comments Due: 5 p.m. ET 10/15/12.

Docket Numbers: EG12-115-000.

Applicants: Penascal II Wind Project, LLC.

Description: Notice of Self-Certification of Exempt Wholesale Generator Status of Penascal II Wind Project, LLC.

Filed Date: 9/25/12.

Accession Number: 20120925-5014.

Comments Due: 5 p.m. ET 10/16/12.

Take notice that the Commission received the following electric rate filings:

Docket Numbers: ER12-1753-000.

Applicants: Wyoming Colorado Intertie, LLC.

Description: Wyoming Colorado Intertie, LLC. and Wyoming Wind & Power, LLC. submit additional information and request expedited action under ER12-1753.

Filed Date: 9/21/12.

Accession Number: 20120921-5160.

Comments Due: 5 p.m. ET 10/1/12.

Docket Numbers: ER12-2514-000.

Applicants: Susterra Energy, LLC.

Description: Susterra Energy, LLC. submits supplement to application for market based authority.

Filed Date: 9/20/12.

Accession Number: 20120920-5162.

Comments Due: 5 p.m. ET 10/11/12.

Docket Numbers: ER12-2523-001.

Applicants: Midwest Independent Transmission System.

Description: Amend Brownton-GRE-NSP T-T to be effective 7/31/2012 under.

Filed Date: 9/24/12.

Accession Number: 20120924-5138.

Comments Due: 5 p.m. ET 10/15/12.

Docket Numbers: ER12-2524-001.

Applicants: Midwest Independent Transmission System.

Description: Sheas Lake-GRE-NSP T-T Amendment to be effective 8/10/2012.

Filed Date: 9/25/12.

Accession Number: 20120925-5059.

Comments Due: 5 p.m. ET 10/16/12.

Docket Numbers: ER12-2680-000.

Applicants: Wells Fargo Commodities, LLC.

Description: WFCLLC. Notice of Cancellation to be effective 9/30/2012.

Filed Date: 9/25/12.

Accession Number: 20120925-5001.

Comments Due: 5 p.m. ET 10/16/12.

Docket Numbers: ER12-2681-000.

Applicants: ITC Holdings Corp., Entergy Corporation, Midwest Independent Transmission System.

Description: Joint Application Under Sections 203 and 205 of the Federal Power Act and Petition for Declaratory Order on Application of Section 305(a) of the Federal Power Act of ITC Holdings Corp., Entergy Corporation et al.

Filed Date: 9/24/12.

Accession Number: 20120924-5181.

Comments Due: 5 p.m. ET 11/8/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 25, 2012.
Nathaniel J. Davis, Sr.,
Deputy Secretary.

[FR Doc. 2012-24226 Filed 10-2-12; 8:45 am]

BILLING CODE 6717-01-P